DEPARTMENT OF ENERGY

Federal Energy Regulatory Commission

[Project No. 2114-083]

Public Utility District No. 2 of Grant County, Washington; Notice of Petition for Declaratory Order

April 19, 2000.

On April 11, 2000, a petition for declaratory order was filed by PacifiCorp; Portland General Electric Company; Puget Sound Energy, Inc.; Eugene Water and Electric Board; City of McMinnville, Oregon; City of Forest Grove, Oregon; Kootenai Electric Cooperative, Inc.; Clearwater Power Company; Idaho County Light & Power Cooperative Association, Inc.; and Northern Lights, Inc. The petition requests the Commission to issue a declaratory order finding that Public Law No. 544, 83d Congress, 68 Stat. 573 (1954), does not limit the identity of potential applicants for a new license for the Priest Rapids Hydroelectric Project No. 2114. The original license for the project was issued to the Public Utility District No. 2 of Grant County, Washington, effective November 1, 1955, and expires on October 31, 2005.¹ The petitioner assert that issuance of a declaratory order is necessary to resolve uncertainty regarding whether an entity other than Public Utility District No. 2 of Grant County or an agency of the State of Washington may obtain a new license to operate the project after the original license expires.

¹ 14 FPC 1067 (1955).

Anyone may submit comments, a protest, or a motion to intervene, in accordance with the requirements of the Commission's Rules of Practice and Procedure, 18 CFR 385.210, 385.211 and 385.214. In determining the appropriate action to take, the Commission will consider all protests and other comments, but only those who file a motion to intervene may become a party to the proceeding. Comments, protests, or motions to intervene must be filed by May 25, 2000; must bear in all capital letters the title “COMMENTS,” “PROTEST,” or “MOTION TO INTERVENE,” as applicable, and Project No. 2114-083. Send the filings (original and 8 copies) to: The Secretary, Federal Energy Regulatory Commission, 888 First Street, NE, Washington, DC 20426. A copy of any filing must also be served on each representative of the petitioner named in its petition.

David P. Boergers,
Secretary.

[FR Doc. 00-10225 Filed 4-24-00; 8:45 am]

BILLING CODE 6717-01-M